COMMISSION ON CIVIL RIGHTS

Agenda and Notice of Public Meeting of the Utah Advisory Committee

Notice is hereby given, pursuant to the provisions of the rules and regulations of the U.S. Commission on Civil Rights, that two meetings of the Utah Advisory Committee to the U.S. Commission on Civil Rights will be held in Salt Lake City, Utah 84101. Both meetings will be held at Horizonte Instruction and Training Center, 1234 S. Main Street, Salt Lake City. A planning meeting with procedural briefing will be held on Tuesday, December 12, 2006 from 5:30 p.m. to 8:30 p.m. (MST); and a community forum will convene on Wednesday, December 13 from 9 a.m. to 6 p.m. (MST).

The purpose of the planning meeting/procedural briefing on Tuesday, December 12, will be to provide orientation and ethics training for the newly chartered Utah Advisory Committee, brief advisory committee members on Commission and regional activities and plan for future activities. During the procedural briefing portion of the meeting, RMRO staff will review procedures and guidelines for conducting the December 13 forum and share information on the presenters.

The purpose of the community forum on Wednesday, December 13, will be to obtain information and perspectives on the status of civil rights for American Indians in Utah. There will be formal presentations from elected officials, tribal representatives, American Indian and community leaders, and other knowledgeable persons. Also, an open session will be conducted.

Persons desiring additional information, or planning a presentation to the Committee, should contact John Dulles, Director of the Rocky Mountain Regional Office, (303) 866-1040 (TDD 303-866-1049). Hearing impaired persons who will attend the meeting and require the services of a sign language interpreter should contact the Regional Office at least ten (10) working days before the scheduled date of the meeting.

The meeting will be conducted pursuant to the provisions of the rules and regulations of the Commission.

Dated at Washington, DC, November 13, 2006.
Ivy L. Davis,
Acting Chief, Regional Programs Coordination Unit.

[FR Doc. E6-19435 Filed 11-16-06; 8:45 am]

BILLING CODE 6335-01-P